DEPARTMENT OF AGRICULTURE

Commodity Credit Corporation

Request for Reinstatement of a Previously Approved Information Collection

AGENCY: Commodity Credit Corporation (CCC).

ACTION: Proposed information collection and request for comments.

SUMMARY: In accordance with the Paperwork Reduction Act of 1995, this notice announces CCC's intention to request reinstatement for a previously approved information collection. The information collection is in support of the regulation for the voluntary assignment of cash payments made by Farm Service Agency or CCC to a third party. In addition, a payment recipient may voluntarily elect to have a cash payment made jointly to the payment recipient and a third party.

DATES: Comments on this notice must be received on or before April 16, 2002 to be assured consideration.

FOR FURTHER INFORMATION CONTACT: Deborah Simmons, Financial Specialist, USDA, FSA, FMD, STOP 0581, 1400 Independence Avenue, SW, Washington, DC 20250-0581; telephone (703) 305-1309; e-mail Debbie_Barker@wdc.fsa.usda.gov; or facsimile (703) 305-1144.

SUPPLEMENTARY INFORMATION: Title: Assignment of Payment and Joint Payment Authorization.

OMB Control Number: 0560-0183.

Type of Request: Reinstatement of a previously approved information collection.

Abstract: CCC is requesting reinstatement of the OMB clearance for Forms CCC-36, Assignment of Payment, CCC-37, Joint Payment Authorization, CCC-251, Notice of Assignment, and CCC-252, Instrument of Assignment. The Soil Conservation and Domestic Allotment Act (16 U.S.C. 590h(g)) authorizes producers to assign, in writing, FSA conservation program payments. The statute requires that any such assignment be signed and witnessed. The Agricultural Act of 1949, as amended, extends that authority to CCC programs, including rice, feed grains, cotton, and wheat.

There are no regulations governing joint payments, but this service is offered as a result of public requests for this type of payment option.

Estimate of Respondent Burden: Public reporting burden for this collection of information is estimated to average 3.75 minutes per response.

Respondents: Producers.

Estimated Number of Respondents: 70,450.

Estimated Number of Responses per Respondent: 1.

Estimated Total Annual Burden on Respondents: 3.75 minutes.

Comments are sought on these requirements including: (a) Whether the collection of information is necessary for the proper performance of the functions of the agency, including whether the information will have practical utility; (b) the accuracy of the agency's estimate of burden, including the validity of the methodology and assumptions used; (c) ways to enhance the quality, utility, and clarity of the information collected; and (d) ways to minimize the burden of the collection of the information on those who are to respond, including through the use of appropriate automated, electronic, mechanical, or other technological collection techniques or other forms of information technology.

Comments may be sent to the Desk Officer for Agriculture, Office of Information and Regulatory Affairs, Office of Management and Budget, Washington, DC 20503, and to Deborah Simmons, Financial Specialist, USDA-FSA-FMD, STOP 0581, 1400 Independence Avenue, SW., Washington, DC 20250-0581; telephone (703) 305-1309; e-mail Debbie_Barker@wdc.fsa.usda.gov; or facsimile (703) 305-1144. Copies of the information collection may be obtained from Ms. Simmons at the above address.

All responses to this notice will be summarized and included in the request for OMB approval. All comments will also become a matter of public record.

Signed at Washington, DC, on February 4, 2002.
James R. Little,
Executive Vice President, Commodity Credit Corporation.

[FR Doc. 02-3707 Filed 2-14-02; 8:45 am]

BILLING CODE 3410-05-P